NUCLEAR REGULATORY COMMISSION

[NRC-2022-0023]

Information Collection: Cooperation With States at Commercial Nuclear Power Plants and Other Nuclear Production or Utilization Facilities

AGENCY: Nuclear Regulatory Commission.

ACTION: Notice of submission to the Office of Management and Budget; request for comment.

SUMMARY: The U.S. Nuclear Regulatory Commission (NRC) has recently submitted a request for renewal of an existing collection of information to the Office of Management and Budget (OMB) for review. The information collection is entitled, “Cooperation with States at Commercial Nuclear Power Plants and Other Nuclear Production or Utilization Facilities.”

DATES: Submit comments by September 12, 2022. Comments received after this date will be considered if it is practical to do so, but the Commission is able to ensure consideration only for comments received on or before this date.

ADDRESSES: Written comments and recommendations for the proposed information collection should be sent within 30 days of publication of this notice to https://www.reginfo.gov/public/do/PRAMain. Find this particular information collection by selecting “Currently under Review—Open for Public Comments” or by using the search function.

FOR FURTHER INFORMATION CONTACT: David C. Cullison, NRC Clearance Officer, U.S. Nuclear Regulatory Commission, Washington, DC 20555-0001; telephone: 301-415-2084; email: Infocollects.Resource@nrc.gov.

SUPPLEMENTARY INFORMATION:

I. Obtaining Information and Submitting Comments

A. Obtaining Information

Please refer to Docket ID NRC-2022-0023 when contacting the NRC about the availability of information for this action. You may obtain publicly available information related to this action by any of the following methods:

• Federal Rulemaking Website: Go to https://www.regulations.gov and search for Docket ID NRC-2022-0023.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. A copy of the collection of information and related instructions may be obtained without charge by accessing ADAMS Accession No. ML22088A049. The final supporting statement is available in ADAMS under Accession No. ML22201A125.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. Eastern Time (ET), Monday through Friday, except Federal holidays.

• NRC's Clearance Officer: A copy of the collection of information and related instructions may be obtained without charge by contacting the NRC's Clearance Officer, David C. Cullison, Office of the Chief Information Officer, U.S. Nuclear Regulatory Commission, Washington, DC 20555-0001; telephone: 301-415-2084; email: Infocollects.Resource@nrc.gov.

B. Submitting Comments

Written comments and recommendations for the proposed information collection should be sent within 30 days of publication of this notice to https://www.reginfo.gov/public/do/PRAMain. Find this particular information collection by selecting “Currently under Review—Open for Public Comments” or by using the search function.

The NRC cautions you not to include identifying or contact information in comment submissions that you do not want to be publicly disclosed in your comment submission. All comment submissions are posted at https://www.regulations.gov and entered into ADAMS. Comment submissions are not routinely edited to remove identifying or contact information.

If you are requesting or aggregating comments from other persons for submission to the OMB, then you should inform those persons not to include identifying or contact information that they do not want to be publicly disclosed in their comment submission. Your request should state that comment submissions are not routinely edited to remove such information before making the comment submissions available to the public or entering the comment into ADAMS.

II. Background

Under the provisions of the Paperwork Reduction Act of 1995 (44 U.S.C. Chapter 35), the NRC recently submitted a request for renewal of an existing collection of information to OMB for review entitled, “Cooperation with States at Commercial Nuclear Power Plants and Other Nuclear Production or Utilization Facilities.” The NRC hereby informs potential respondents that an agency may not conduct or sponsor, and that a person is not required to respond to, a collection of information unless it displays a currently valid OMB control number.

The NRC published a Federal Register notice with a 60-day comment period on this information collection on April 25, 2022 (87 FR 24348).

1. The title of the information collection: Cooperation with States at Commercial Nuclear Power Plants and Other Nuclear Production or Utilization Facilities.

2. OMB approval number: 3150-0163.

3. Type of submission: Extension.

4. The form number, if applicable: Not applicable.

5. How often the collection is required or requested: On occasion, when a State or Federally recognized Indian Tribe wishes to observe NRC inspections or perform inspections for the NRC or when a State or Federally recognized Indian Tribe wishes to negotiate an agreement to observe or perform inspections. States with an instrument of cooperation or a State Resident Engineer have both regular reporting and occasion-specific reporting.

6. Who will be required or asked to respond: States and Federally recognized Tribes interested in observing or performing inspections.

7. The estimated number of annual responses: 207.

8. The estimated number of annual respondents: 33.

9. The estimated number of hours needed annually to comply with the information collection requirement or request: 1219.

10. Abstract: States and Federally recognized Indian Tribes are involved and interested in monitoring the safety status of nuclear power plants and other nuclear production and utilization facilities. This involvement is, in part, in response to the States' and Tribes' public health and safety responsibilities and, in part, in response to their citizens' desire to become more knowledgeable about the safety of nuclear power plants and other nuclear production and utilization facilities. States and Tribes have identified NRC inspections as one possible source of knowledge for their personnel regarding NRC licensee activities, and the NRC, through the policy statement, “Cooperation with States at Commercial Nuclear Power Plants and Other Nuclear Production or Utilization Facilities” (57 FR 6462; February 25, 1992), has been amenable to accommodating States' and Tribes' needs in this regard. The NRC uses the information collected under this information collection requirement to allow States and Federally recognized Indian Tribes to participate in or observe inspections at NRC-licensed facilities. The types of information collected include written requests identifying specific inspections States and Tribes wish to observe; identification-related information required for site access to NRC-licensed facilities; training and qualifications of State and Tribal personnel participating in inspections; information required to define inspection roles for States and Tribes; and information to coordinate NRC and State and Tribal inspections.

Dated: August 5, 2022.
For the Nuclear Regulatory Commission.
David C. Cullison,
NRC Clearance Officer, Office of the Chief Information Officer.

[FR Doc. 2022-17216 Filed 8-10-22; 8:45 am]

BILLING CODE 7590-01-P